FEDERAL RESERVE SYSTEM

Corporation To Do Business Under Section 25A of the Federal Reserve Act

The companies listed in this notice have applied to the Board for approval, pursuant to Section 25A of the Federal Reserve Act (Edge Corporation) (12 U.S.C. 611 et seq.), and all other applicable statutes and regulations to establish an Edge Corporation. The Edge Corporation will operate as a subsidiary of the applicant, First-Citizens Bank & Trust Company, Raleigh, North Carolina. The factors that are to be considered in acting on the application are set forth in the Board's Regulation K (12 CFR 211.5).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in Section 25A of the Federal Reserve Act.

Comments regarding each of these applications must be received at the Reserve Bank indicated or the offices of the Board of Governors, Ann E. Misback, Secretary of the Board, 20th Street and Constitution Avenue NW, Washington, DC 20551-0001, not later than January 14, 2021.

A. Federal Reserve Bank of Richmond (Adam M. Drimer, Assistant Vice President) 701 East Byrd Street, Richmond, Virginia 23219. Comments can also be sent electronically to or Comments.applications@rich.frb.org:

1. First-Citizens Bank & Trust Company, Raleigh, North Carolina; to establish FC International, Inc., Raleigh, North Carolina, as an Edge Corporation.

Board of Governors of the Federal Reserve System, December 23, 2020.
Margaret McCloskey Shanks,
Deputy Secretary of the Board.

[FR Doc. 2020-28854 Filed 12-29-20; 8:45 am]

BILLING CODE 6210-01-P